DEPARTMENT OF DEFENSE

Department of the Navy

Meeting of the Ocean Research Advisory Panel

AGENCY: Department of the Navy, DOD.

ACTION: Notice of open meeting.

SUMMARY: The Ocean Research Advisory Panel (ORAP) will hold a regularly scheduled meeting. The meeting will be open to the public.

DATES: The meeting will be held on Wednesday, January 11, 2017 from 9:00 a.m. to 11:00 a.m., Eastern Time. Members of the public should submit their comments in advance of the meeting to the meeting Point of Contact. Due to circumstances beyond the control of the Designated Federal Officer and the Department of Defense, the Ocean Research Advisory Panel was unable to provide public notification of its meeting of January 11, 2017, as required by 41 CFR 102-3.150(a). Accordingly, the Advisory Committee Management Officer for the Department of Defense, pursuant to 41 CFR 102-3.150(b), waives the 15-calendar day notification requirement.

ADDRESSES: This will be a teleconference. For access, connect to: https://global.gotomeeting.com/join/822051381. The call-in number will be: (312) 757-3121, with access code: 822-051-381.

FOR FURTHER INFORMATION CONTACT: CDR Joel W. Feldmeier, Office of Naval Research, 875 North Randolph Street Suite 1425, Arlington, VA 22203-1995, telephone 703-696-5121.

SUPPLEMENTARY INFORMATION: This notice of open meeting is provided in accordance with the Federal Advisory Committee Act (5 U.S.C. App. 2). The meeting will include discussions on ocean research, resource management, and other current issues in the ocean science and management communities.

Dated: January 10, 2017.
A.M. Nichols,
Lieutenant Commander, Judge Advocate General's Corps, U.S. Navy, Federal Register Liaison Officer.

[FR Doc. 2017-00812 Filed 1-13-17; 8:45 am]

BILLING CODE 3810-FF-P